DEPARTMENT OF JUSTICE

Notice of Proposed Administrative Settlement Agreement Under the Clean Comprehensive Environmental Response, Compensation, and Liability Act

On March, 12, 2018, the Department of Justice formally proposed to enter a Settlement Agreement and Order on Consent for Response Action (“Settlement Agreement”) with the Bunker Hill Mining Corp. (“BHMC”), in connection with BHMC's purchase of property located at the Bunker Hill Mine, south of Kellogg, in the Silver Valley of Shoshone County, Idaho (the “Mine”), which is located in and part of the “Non-Populated Areas Operable Unit of the Bunker Hill Superfund Site.” As described in the Settlement Agreement, BHMC agrees to perform response actions at or in connection with the Mine and to make payments for, and in satisfaction of the liability of Placer Mining Corp. and the Estate of Robert Hopper, Sr., under the Comprehensive Environmental Response, Compensation, and Liability Act, 42 U.S.C. 9601-9675 (“CERCLA”).

Under the proposed Settlement Agreement, BHMC has agreed, as part of the consideration BHMC is paying to purchase the Mine and in satisfaction of the liability of Placer Mining Co. and Robert Hopper, Jr., the current owners of the Mine, to reimburse the United States over 80 percent of its costs incurred in connection with the Bunker Hill Mine property and have agreed to pay for treatment of acid water discharged from the Mine and to otherwise manage Mine water as requested by the Environmental Protection Agency.

The publication of this notice opens a period for public comment on the Settlement Agreement. Comments should be addressed to the Assistant Attorney General, Environment and Natural Resources Division, and should refer to In the Matter of: Bunker Hill Superfund Site, Kellogg, Idaho—Settlement Agreement and Order on Consent for Response Action by Bunker Hill Mining Corp., D.J. Ref. No. 90-11-3-128/18. All comments must be submitted no later than fourteen (14) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Settlement Agreement may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $ 31.00 (25 cents per page reproduction cost) payable to the United States Treasury.

Susan M. Akers,
Assistant Section Chief, Environmental Enforcement Section, Environment and Natural Resources Division.

[FR Doc. 2018-05470 Filed 3-16-18; 8:45 am]

BILLING CODE 4410-15-P